DEPARTMENT OF THE INTERIOR

Fish and Wildlife Service

[FWS-R5-R-2010-N019; BAC-4311-K9 S3]

Patuxent Research Refuge, Anne Arundel and Prince George's Counties, MD

AGENCY: Fish and Wildlife Service, Interior.

ACTION: Notice of intent to prepare a comprehensive conservation plan and environmental assessment; announcement of public scoping meetings.

SUMMARY: We, the U.S. Fish and Wildlife Service (Service), intend to prepare a comprehensive conservation plan (CCP) and environmental assessment (EA) for Patuxent Research Refuge in Laurel, Maryland. We provide this notice in compliance with our CCP policy to advise other Federal and State agencies, Tribes, and the public of our intentions, and to obtain suggestions and information on the scope of issues to consider in the planning process. We are also announcing public meetings and requesting public comments.

DATES: To ensure consideration, please send your written comments by March 31, 2010. We will announce opportunities for public input in local news media throughout the CCP process.

ADDRESSES: Send your comments or requests for more information by any of the following methods.

Electronic mail: northeastplanning@fws.gov. Include “Patuxent Research Refuge CCP” in the subject line of the message.

Facsimile: Attention: Nancy McGarigal, 413-253-8468.

U.S. Mail: U.S. Fish and Wildlife Service, 300 Westgate Center Drive, Hadley, MA 01035.

In-Person Drop-off: You may drop off comments during regular business hours at Patuxent Research Refuge, 10901 Scarlet Tanager Loop, Laurel, MD 20708.

FOR FURTHER INFORMATION CONTACT: Brad Knudsen, Refuge Manager, Patuxent Research Refuge, 10901 Scarlet Tanager Loop, Laurel, MD 20708; phone: 301-497-5580; electronic mail: brad_knudsen@fws.gov.

SUPPLEMENTARY INFORMATION:

Introduction

With this notice, we initiate our process for developing a CCP for Patuxent Research Refuge, in Anne Arundel and Prince George's Counties, Maryland. This notice complies with our CCP policy to (1) advise other Federal and State agencies, Tribes, and the public of our intention to conduct detailed planning on this refuge, and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation, photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation while providing for wildlife-dependent recreation opportunities that are compatible with each refuge's establishing purposes and the mission of the NWRS.

Our CCP process provides participation opportunities for Tribal, State, and local governments, agencies, organizations, and the public. At this time we encourage input in the form of issues, concerns, ideas, and suggestions for the future management of Patuxent Research Refuge.

We will conduct the environmental review of this project and develop an EA in accordance with the requirements of the National Environmental Policy Act of 1969, as amended (NEPA) (42 U.S.C. 4321 et seq.); NEPA regulations (40 CFR parts 1500-1508); other appropriate Federal laws and regulations; and our policies and procedures for compliance with those laws and regulations.

Patuxent Research Refuge

Established in 1936 by executive order of President Franklin D. Roosevelt, a major portion of Patuxent Research Refuge is to support wildlife research. Today most of the research on the refuge is conducted by the U.S. Geological Survey through the Patuxent Wildlife Research Center.

With land surrounding the Patuxent and Little Patuxent Rivers between Washington, DC, and Baltimore, Maryland, the refuge has grown from the original 2,670 acres to its present size of 12,841 acres, and encompasses land formerly managed by the Departments of Agriculture and Defense. Refuge habitats consist of forested floodplain and mixed hardwood uplands, managed impoundments, fields, and shrublands. The impressive breadth of research that has occurred over the years includes projects involving issues such as environmental contaminants, captive propagation of endangered species, including the whooping crane, and bird population monitoring techniques. The refuge is home to the National Wildlife Visitor Center, a first-class facility for environmental education, interpretation, and scientific information exchange. There are over 24 miles of hiking trails on the refuge, and a variety of opportunities for hunting, fishing, and wildlife observation year-round.

Scoping: Preliminary Issues, Concerns, and Opportunities

The planning team has identified some preliminary issues, concerns, and opportunities to address in the CCP. We list below the categories for issues we have preliminarily identified. During public scoping, we expect additional issues may be raised.

(1) Ecoregional or ecosystem-wide issues, such as climate change, land conservation, and protection of water quality throughout the watershed;

(2) Biological program issues, such as habitat and species management, protection, restoration, monitoring, inventories, and research;

(3) Public-use program issues, such as the breadth and quality of programs, public access, user conflicts, and use impacts on natural resources;

(4) Infrastructure and staffing issues, such as appropriateness of facilities, safety, accessibility, and additional staffing needs;

(5) Community relations and outreach issues and opportunities, such as tourism, and local economic impacts; and

(6) Coordination and communication issues and opportunities with other Service programs and the U.S. Geological Survey.

Public Meetings

We will give the public an opportunity to provide input at public meetings. You can obtain the schedule from the planning team leader or project leader (see ADDRESSES). You may also send comments anytime during the planning process by mail, electronic mail, or facsimile (see ADDRESSES). There will be additional opportunities to provide public input once we have prepared a draft CCP.

Public Availability of Comments

Before including your address, phone number, electronic mail address, or other personal identifying information in your comments, you should be aware that your entire comment—including your personal identifying information—may be made publicly available at any time. While you can ask us in your comment to withhold your personal identifying information from public review, we cannot guarantee that we will be able to do so.

Dated: February 11, 2010.
Wendi Weber,
Acting Regional Director, Northeast Region, U.S. Fish and Wildlife Service.

[FR Doc. 2010-5632 Filed 3-15-10; 8:45 am]

BILLING CODE 4310-55-P